DEPARTMENT OF DEFENSE

Department of the Navy

Correction to the Final Environmental Impact Statement/Overseas Environmental Impact Statement for Hawaii-Southern California Training and Testing

AGENCY: Department of the Navy, DoD.

ACTION: Notice.

SUMMARY: This notice announces the availability of a corrected Final Environmental Impact Statement (EIS)/Overseas EIS (OEIS) for Hawaii-Southern California Training and Testing (HSTT), which was filed by the Department of the Navy (DoN) with the U.S. Environmental Protection Agency (USEPA) on September 20, 2013 as required by Council on Environmental Quality regulations pursuant to the National Environmental Policy Act (NEPA) of 1969. The corrected HSTT Final EIS/OEIS includes an 11-page Section E.5 that was inadvertently omitted from Appendix E in the August 23, 2013 filing with the USEPA. To allow the public adequate time to review Section E.5, the DoN is extending the wait period from September 30, 2013 to October 28, 2013, an additional 30 days.

FOR FURTHER INFORMATION CONTACT: Naval Facilities Engineering Command, Southwest, Attention: HSTT EIS/OEIS Project Manager—EV21.CS; 1220 Pacific Highway, Building 1, Floor 3, San Diego, California 92132-5190.

SUPPLEMENTARY INFORMATION: On August 23, 2013, the DoN filed the HSTT Final EIS/OEIS with the USEPA as required pursuant to section 102(2)(c) of NEPA, and regulations implemented by the Council on Environmental Quality regulations (40 Code of Federal Regulations parts 1500-1508). Copies of the Final EIS/OEIS were distributed to the public and posted on the HSTT project Web site. The USEPA published a notice of availability of the Final EIS/OEIS in the Federal Register on August 30, 2013 (78 FR 53754). Copies of the Final EIS/OEIS were distributed to the public and posted on the HSTT project Web site. The wait period is scheduled to end on September 30, 2013.

Since filing and distributing the HSTT Final EIS/OEIS, the DoN has identified a need to correct Appendix E to include an 11-page Section E.5, which was inadvertently omitted from the August 23, 2013 filing with the USEPA. Section E.5 includes public comments (and DoN responses) applicable to the HSTT Final EIS/OEIS that were received by the National Marine Fisheries Service during the public review of the Marine Mammal Protection Act Proposed Rule for takes of marine mammals incidental to U.S. Navy Training and Testing Activities in the Hawaii-Southern California Training and Testing Study Area. The corrected HSTT Final EIS/OEIS was filed with the USEPA on September 20, 2013.

With the filing of the corrected HSTT Final EIS/OEIS, the DoN is extending the 30-day wait period from September 30, 2013 to October 28, 2013. This 30-day extension will allow the public adequate time to review Section E.5.

Copies of the corrected HSTT Final EIS/OEIS are available for public review at the following libraries:

1. Lihue Public Library, 4344 Hardy Street, Lihue, Hawaii 96766.

2. Wailuku Public Library, 251 High Street, Wailuku, Hawaii 96793.

3. Hilo Public Library, 300 Waianuenue Avenue, Hilo, Hawaii 96720.

4. Kailua-Kona Public Library, 75-138 Hualalai Road, Kailua-Kona, Hawaii 96740.

5. Hawaii State Library, Hawaii and Pacific Section Document Unit, 478 South King Street, Honolulu, Hawaii 96813.

6. San Diego Central Library, 820 E Street, San Diego, California 92101.

7. Long Beach Main Library, 101 Pacific Avenue, Long Beach, California 90822.

In addition, copies of the corrected HSTT Final EIS/OEIS are available for electronic viewing or download at http://www.HSTTEIS.com. A single compact disc of the corrected HSTT Final EIS/OEIS will be made available upon written request by contacting: Naval Facilities Engineering Command, Southwest, Attention: HSTT EIS/OEIS Project Manager—EV21.CS; 1220 Pacific Highway, Building 1, Floor 3, San Diego, CA 92132-5190.

Dated: September 24, 2013.
P.A. Richelmi,
Lieutenant, Office of the Judge Advocate General, U.S. Navy, Alternate Federal Register Liaison Officer.

[FR Doc. 2013-23607 Filed 9-26-13; 8:45 am]

BILLING CODE 3810-FF-P